DEPARTMENT OF COMMERCE

International Trade Administration

[A-570-851, A-533-813]

Certain Preserved Mushrooms From the People's Republic of China and India: Notice of Extension of Time Limit for Preliminary Results in Antidumping Duty Administrative Reviews

AGENCY: Import Administration, International Trade Administration, Department of Commerce.

DATES: Effective Date: October 15, 2004.

FOR FURTHER INFORMATION CONTACT: Cindy Robinson at (202) 482-3797, or Amber Musser at (202) 482-1777 (PRC), and David J. Goldberger at (202) 482-4136, or Kate Johnson at (202) 482-4929 (India), Import Administration, International Trade Administration, U.S. Department of Commerce, 14th Street and Constitution Avenue, NW., Washington, DC, 20230.

SUMMARY: The Department of Commerce is extending the time limit for the preliminary results of the fifth administrative review of the antidumping duty order on certain preserved mushrooms from the People's Republic of China and the fifth administrative review of the antidumping duty order on certain preserved mushrooms from India, which cover the period February 1, 2003 through January 31, 2004.

SUPPLEMENTARY INFORMATION: Pursuant to section 751(a)(3)(A) of the Tariff Act of 1930, as amended (the Act), the Department shall make a preliminary determination in an administrative review of an antidumping duty order within 245 days after the last day of the anniversary month of the date of publication of the order. The Act further provides, however, that the Department may extend that 245-day period to 365 days if it determines it is not practicable to complete the review within the foregoing time period.

The Department finds that it is not practicable to complete the preliminary results in the administrative review of certain preserved mushrooms from the People's Republic of China as well as the administrative review of certain preserved mushrooms from India within this time limit. We find that additional time is needed in order to fully analyze the questionnaire responses submitted by respondents and conduct possible verifications of these administrative reviews.

Therefore, in accordance with section 751(a)(3)(A) of the Act, the Department is extending the time for completion of the preliminary results of these reviews until February 28, 2005.

Dated: October 5, 2004.
Jeffrey May,
Deputy Assistant Secretary for Import Administration.

[FR Doc. E4-2661 Filed 10-14-04; 8:45 am]

BILLING CODE 3510-DS-P